DEPARTMENT OF AGRICULTURE

Foreign Agricultural Service

Trade Adjustment Assistance for Farmers

AGENCY: Foreign Agricultural Service, USDA.

ACTION: Notice of public hearings.

The Administrator today accepted a petition, and began a review of a petition, for trade adjustment assistance by the Michigan Agricultural Cooperative Marketing Association on behalf of apple producers in Michigan. A public hearing to review the merits of the petition will be held in Room 411-P of Suite 400, Portals Office Building, 1250 Maryland Ave., SW., Washington, DC 20024 on May 5, 2010, at 11 a.m. Eastern Time to receive written and oral comments associated with this petition.

SUPPLEMENTARY INFORMATION: The Administrator will determine within 40 days whether or not increasing imports of apple juice contributed to a greater than 15 percent decrease in the national average price of apples compared to the average of the 3 preceding marketing years. The petition maintains that Michigan apple producers have suffered primarily due to increased imports of apple juice concentrate. Over 81 percent of the apple juice consumed in the U.S. is from imported concentrate. If a determination is affirmative, producers who produce and market apples in Michigan will be eligible to apply to the Farm Service Agency for technical assistance and cash benefits. Persons who wish to speak at the hearing must register with the TAA Coordinator at (202) 720-0638 or (202) 690-0633, at least 24 hours before the hearing. Presenters will be allotted time to speak and should submit a written summary of their remarks for the record.

FOR FURTHER INFORMATION CONTACT: Trade Adjustment Assistance Staff, Office of Trade Programs, Foreign Agricultural Service, U.S. Department Agriculture at (202) 720-0638, or by e-mail at: tradeadjustment@fas.usda.gov. Additional program information can be obtained at the Web site for the Trade Adjustment Assistance for Farmers program. The URL is http://www.fas.usda.gov/itp/taa.

Dated: April 28, 2010.
John D. Brewer,
Administrator, Foreign Agricultural Service.

[FR Doc. 2010-10431 Filed 5-3-10; 8:45 am]

BILLING CODE 3410-10-P